DEPARTMENT OF TRANSPORTATION

Maritime Administration

Reports, Forms and Recordkeeping Requirements; Agency Information Collection Activity Under OMB Review

AGENCY: Maritime Administration, DOT.

ACTION: Notice and request for comments.

SUMMARY: In compliance with the Paperwork Reduction Act of 1995 (44 U.S.C. 3501 et seq.), this notice announces that the Information Collection abstracted below has been forwarded to the Office of Management and Budget (OMB) for review and approval. The nature of the information collection is described as well as its expected burden. The Federal Register Notice with a 60-day comment period soliciting comments on the following collection of information was published on February 3, 2011, and comments were due by April 4, 2011. No comments were received.

DATES: Comments must be submitted on or before June 1, 2011.

FOR FURTHER INFORMATION CONTACT: Richard Lolich, Maritime Administration, 1200 New Jersey Avenue, SE., Washington, DC 20590. Telephone: 202-366-0704; or e-mail: richard.lolich@dot.gov. Copies of this collection also can be obtained from that office.

SUPPLEMENTARY INFORMATION: Maritime Administration (MARAD).

Title: MARAD's Marine Transportation Economic Impact Model Data Needs.

OMB Control Number: 2133-0538.

Type of Request: Extension of currently approved collection.

Affected Public: The target population for the survey will be approximately 100 U.S. vessel and marine terminal operating companies.

Forms: MA-1051, MA-1052.

Abstract: This collection will provide current marine transportation system operational data for the Marine Transportation Economic Impact Model that is not available through other means. The model uses information collected through surveys of the maritime operating areas to develop a profile of the industry. Since the last survey in 1999, significant increases in fuel, surface transportation, and security costs have occurred, as well as the introduction of new information and environmental technologies that have substantially affected marine transportation system operations.

Annual Estimated Burden Hours: 450 hours.

Addressees: Send comments to the Office of Information and Regulatory Affairs, Office of Management and Budget, 725 17th Street, Northwest, Washington, DC 20503, Attention MARAD Desk Officer.

Comments Are Invited On: Whether the proposed collection of information is necessary for the proper performance of the functions of the agency, including whether the information will have practical utility; the accuracy of the agency's estimate of the burden of the proposed information collection; ways to enhance the quality, utility and clarity of the information to be collected; and ways to minimize the burden of the collection of information on respondents, including the use of automated collection techniques or other forms of information technology. A comment to OMB is best assured of having its full effect if OMB receives it within 30 days of publication.

Authority: 49 CFR 1.66.

Dated: April 20, 2011.
Christine Gurland,
Secretary, Maritime Administration.

[FR Doc. 2011-10571 Filed 4-29-11; 8:45 am]

BILLING CODE 4910-81-P